DEPARTMENT OF LABOR

Employment and Training Administration

[TA-W-58,540]

Cytech Hardwoods, Inc., Amsterdam, NY; Notice of Negative Determination on Reconsideration

On March 17, 2006, the Department issued an Affirmative Determination Regarding Application for Reconsideration for the workers and former workers of the subject firm. The Department's Notice of determination was published in the Federal Register on March 29, 2006 (71 FR 15766). Workers produce hardwood lumber and hardwood flooring and are not separately identifiable by product line.

The initial negative determination was issued because the “contributed importantly” group eligibility requirement of Section 222 of the Trade Act of 1974, as amended, was not met. The investigation revealed that the subject firm did not shift production abroad and neither the subject firm nor any of the major declining customers increased their imports of hardwood lumber during the relevant period. The subject firm ceased production in December 2005.

In the request for reconsideration, the company official stated that the subject firm's customers are “importing finished goods * * *. therefore, they no longer purchase domestic lumber to support finished goods.”

Since the initial investigation did not address the issue of hardwood flooring imports, the Department issued an Affirmative Determination Regarding Application for Reconsideration for the workers and former workers of the subject firm.

In order to establish import impact, the Department must consider imports that are like or directly competitive with those produced at the subject firm. As such, the Department conducted another survey of the customers of their purchases of hardwood lumber and hardwood flooring. The expanded survey revealed no imports of either product during the relevant period.

Based on the company official's allegation in the request for reconsideration, the Department investigated whether the workers of the subject firm are eligible for Trade Adjustment Assistance (TAA) based on the secondary upstream supplier impact. For certification on the basis of the workers' firm being an upstream supplier, the subject firm must have customers that are TAA certified, and these TAA certified customers must represent a significant portion of subject firm's business. In addition, the subject firm would have to produce a component part of the product that was the basis for the customers' certification.

A search of the TAA database revealed that, for the relevant period, none of the subject firm's major declining customers are TAA certified. As such, the subject worker group is not eligible for TAA under secondary impact.

In order for the Department to issue a certification of eligibility to apply for Alternative Trade Adjustment Assistance (ATAA), the worker group must be certified eligible to apply for TAA. Since the workers are denied eligibility to apply for TAA, the workers cannot be certified eligible for ATAA.

Conclusion

After reconsideration, I affirm the original notice of negative determination of eligibility to apply for worker adjustment assistance and alternative trade adjustment assistance for workers and former workers of CyTech Hardwood, Inc., Amsterdam, New York.

Signed at Washington, DC, this 31st day of May 2006.
Elliott S. Kushner,
Certifying Officer, Division of Trade Adjustment Assistance Assistance.

[FR Doc. E6-9009 Filed 6-8-06; 8:45 am]

BILLING CODE 4510-30-P